DEPARTMENT OF TRANSPORTATION

National Highway Traffic Safety Administration

[Docket No. NHTSA-2013-0143; Notice 1]

General Motors, LLC, Receipt of Petition for Decision of Inconsequential Noncompliance

AGENCY: National Highway Traffic Safety Administration (NHTSA), Department of Transportation (DOT).

ACTION: Receipt of Petition.

SUMMARY: General Motors, LLC (GM) has determined that certain model year (MY) 2010-2014 GM Cadillac SRX multipurpose passenger vehicles (MPVs), do not fully comply with paragraph S4.4 of Federal Motor Vehicle Safety Standard (FMVSS) FMVSS No. 110, Tire selection and rims and motor home/recreation vehicle trailer load carrying capacity information for motor vehicles with a GVWR of 4,536 kilograms (10,000 pounds) or less and paragraph S4.4 of FMVSS No. 109, New pneumatic and certain specialty tires. GM has filed an appropriate report dated November 27, 2013, pursuant to 49 CFR part 573, Defect and Noncompliance Responsibility and Reports.

DATES: The closing date for comments on the petition is July 7, 2014.

ADDRESSES: Interested persons are invited to submit written data, views, and arguments on this petition. Comments must refer to the docket and notice number cited at the beginning of this notice and be submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION:

I. GM's Petition

Pursuant to 49 U.S.C. 30118(d) and 30120(h) (see implementing rule at 49 CFR part 556), GM submitted a petition for an exemption from the notification and remedy requirements of 49 U.S.C. Chapter 301 on the basis that this noncompliance is inconsequential to motor vehicle safety.

This notice of receipt of GM's petition is published under 49 U.S.C. 30118 and 30120 and does not represent any agency decision or other exercise of judgment concerning the merits of the petition.

II. Vehicles Involved

Affected are approximately 51,704 MY 2010-2014 GM Cadillac SRX manufactured between June 18, 2009, and October 31, 2013.

III. Noncompliance

GM explains that the noncompliances are due to both an error in the spare rim marking, and that the tire and rim matching information is not contained in The European Tyre and Rim Technical Organization (ETRTO) publication. The dimensions of the rims are consistent with the dimensions listed by ETRTO, and should have been marked “E” as required by FMVSS No. 110, S4.4.2(a). Due to the rim marking error, the rims were marked “T,” indicating The Tire and Rim Association, Inc. (T&RA), as a consequence some of the actual dimensions of the rims are inconsistent with the published nominal dimensions in the T&RA Year Book. In addition, the combination of T135/70R18 temporary spare tires and 18x4.5B rims is not listed in ETRTO, which is a noncompliance with FMVSS No. 109, S4.4.1(b).

IV. Rule Text

Paragraph S4.4.2 of FMVSS No. 110 requires in pertinent part: Each rim shall be marked with the information listed in S4.4.2(a) through (e) . . .

(a) designation that indicates the source of the rim's published nominal dimensions, as follows:

(1) “T” indicates The Tire and Rim Association.

(2) “E” indicates The European Tyre and Rim Technical Organization . . .

Paragraph S4.4.1 of FMVSS No. 109 requires in pertinent part: . . . a listing of the rims that may be used with each tire is provided to the public . . . in one of the following forms:

(b) Contained in publications, current at the date of manufacture of the tire or any later date, of at least one of the following organizations: Tire and Rim Association, The European Tyre and Rim Technical Organization, . . .

V. Summary of GM's Analyses

GM stated its belief that the subject noncompliances are inconsequential to motor vehicle safety for the following reasons:

1. GM stated that the tire and rim of the affected spare wheels are properly matched, and are appropriate for the load-carrying characteristics of the subject vehicles. The subject tire/rim assembly meets S4.4.1(b) rapid air loss requirement of FMVSS No. 110. The subject vehicles also met GM's internal ride and handling guidelines with the subject spare tire/rim assembly installed. The incorrect association marking has no effect on the performance of the tire/rim combination.

2. GM believes that all other rim marking information required by S4.4.2 of FMVSS No. 110 on the subject rims is correct. The rims are marked with S4.4.2(b) rim size designation; S4.4.2(c) the symbol DOT; S4.4.2(d) manufacturer identification; and S4.4.2(e) month and year of manufacture.

3. GM believes that the rim is marked with the correct rim size information; namely 18x4.5B. The vehicle tire pressure placard contains the correct tire size information, and the tire size is marked on the tire sidewall. The certification label on the vehicle contains the correct spare tire and rim sizes; namely T135/70R18 and 18x4.5B. Thus, the rim markings and vehicle labeling, which are used to identify the correct replacement rim, provide the correct and complete size of spare rim. Therefore, there is very little likelihood of a tire and rim mismatch as a result of the incorrect marking of the source of the published rim dimensions.

4. GM believes that very few of these spare wheels will ever need to be replaced over the life of the vehicle. Nevertheless, the owner's manual provided with these vehicles contains a section “Wheel Replacement”. This section states “Your dealer will know the kind of wheel that is needed. Each new wheel should have the same load-carrying capacity, diameter, width, offset, and be mounted the same way as the one it replaces.”

5. GM believes that if a customer needs to replace a spare wheel, he/she is likely to go to a GM dealer or a tire/wheel retailer. The skilled personnel at these facilities know how to determine the correct spare wheel size that they are replacing. For spare wheel replacement, they may look at the spare wheel itself, the tire, the tire placard or the certification label to determine the replacement size. The spare wheel does contain the correct size designation 18x4.5B.

6. GM believes that all other applicable requirements of FMVSS Nos. 109 and 110 have been met.

GM also stated its belief that NHTSA has previously granted inconsequential treatment for FMVSS No. 110 rim marking noncompliance.

GM informed NHTSA that it is not aware of any crashes, injuries or customer complaints associated with this condition.

GM also informed NHTSA that it has corrected the noncompliance for all future production.

In summation, GM believes that the described noncompliance of the subject vehicles is inconsequential to motor vehicle safety, and that its petition, to exempt from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject noncompliant vehicles that GM no longer controlled at the time it determined that the noncompliance existed. However, any decision on this petition does not relieve motor vehicle distributors and dealers of the prohibitions on the sale, offer for sale, or introduction or delivery for introduction into interstate commerce of the noncompliant motor vehicles under their control after GM notified them that the subject noncompliance existed.

Authority: (49 U.S.C. 30118, 30120: Delegations of authority at 49 CFR 1.95 and 501.8)

Jeffrey M. Giuseppe,
Acting Director, Office of Vehicle Safety Compliance.

[FR Doc. 2014-13182 Filed 6-5-14; 8:45 am]

BILLING CODE 4910-59-P